DEPARTMENT OF TRANSPORTATION

Federal Aviation Administration

Aging Transport Systems Rulemaking Advisory Committee; Meeting

AGENCY: Federal Aviation Administration (FAA), DOT.

ACTION: Notice of public meeting.

SUMMARY: This notice announces a public meeting of the FAA's Aging Transport Systems Rulemaking Advisory Committee.

DATES: The meeting will be held March 13, 2001, beginning at 8 a.m.

ADDRESSES: The meeting will be at the Boeing Company, 1200 Wilson Blvd., Roslyn, Virginia.

FOR FURTHER INFORMATION CONTACT: Gerri Robinson, Office of Rulemaking, ARM-24, FAA, 800 Independence Avenue, SW, Washington, DC 20591, Telephone (202) 267-9078, FAX (202) 267-5075, or e-mail at gerri.robinson@faa.gov.

SUPPLEMENTARY INFORMATION: Notice is hereby given of a meeting of the Aging Transport Systems Rulemaking Advisory Committee to be held at the Boeing Company, 1200 Wilson Blvd. Roslyn, Virginia.

The agenda will include consideration of new taskings to ATSRAC and discussion on appropriate membership needed to review and make recommendations to the FAA, if the tasks are accepted.

Attendance is open to the interested public, but will be limited to the availability of meeting room space. The FAA will arrange teleconference capability for individuals wishing to participate by teleconference if we receive notification before February 28, 2001. Arrangements to participate by teleconference can be made by contacting the person listed in the FOR FURTHER INFORMATION CONTACT section. Callers outside the Washington metropolitan area will be responsible for paying long distance charges.

The public may present written statements to the committee at any time by providing 20 copies to the Executive Director, or by bringing the copies to the meeting. Public statements will only be considered if time permits. In addition, sign and oral interpretation as well as a listening device can be made available if requested 10 calendar days before the meeting.

Issued in Washington, DC on February 8, 2001.
Anthony F. Fazio,
Director, Office of Rulemaking.

[FR Doc. 01-3741 Filed 2-9-01; 3:23 pm]

BILLING CODE 4910-13-M